OFFICE OF MANAGEMENT AND BUDGET

Request for Comments on Federal Source Code Policy

AGENCY: Office of Management and Budget.

ACTION: Notice of public comment period.

SUMMARY: The Office of Management and Budget (OMB) is seeking public comment on a draft memorandum titled, “Federal Source Code Policy—Achieving Efficiency, Transparency, and Innovation through Reusable and Open Source Software.”

DATES: The 30-day public comment period on the draft memorandum closes on April 11, 2016.

ADDRESSES: Interested parties should provide comments and feedback to https://SourceCode.cio.gov or to SourceCode@omb.eop.gov.

FOR FURTHER INFORMATION CONTACT: Mr. Alvand A. Salehi, OMB, at SourceCode@omb.eop.gov or AAbdolsalehi@omb.eop.gov.

SUPPLEMENTARY INFORMATION: The Administration committed to adopting a Government-wide Open Source Software policy in its Second Open Government National Action Plan that “will support improved access to custom software code developed for the Federal Government,” emphasizing that using and contributing back to Open Source Software can fuel innovation, lower costs, and benefit the public. In support of that commitment, today the White House Office of Management and Budget (OMB) is releasing a draft policy to improve the way custom-developed Government code is acquired and distributed moving forward. This policy requires that, among other things: (1) New custom code whose development is paid for by the Federal Government be made available for re-use across Federal agencies; and (2) a portion of that new custom code be released to the public as Open Source Software. Authority for this notice is granted under the Clinger-Cohen Act, 40 U.S.C. Subtitle III.

Tony Scott,
Administrator, Office of the Federal Chief Information Officer.

[FR Doc. 2016-05601 Filed 3-10-16; 8:45 am]

BILLING CODE 3110-05-P